GENERAL SERVICES ADMINISTRATION

[Notice-MA-2025-19; Docket No. 2025-0002; Sequence No. 17]

Revision to Foreign Gifts and Decorations Minimal Value

AGENCY: Office of Government-Wide Policy (OGP), General Services Administration (GSA).

ACTION: Notice of GSA Bulletin FMR B-2025-01, Foreign Gifts and Decorations Minimal Value.

SUMMARY: GSA, in consultation with the U.S. Department of State, must redefine the minimal value of foreign gifts and decorations to reflect changes in the Consumer Price Index (CPI) for the preceding 3-year period, as specified under the law concerning the Receipt and Disposition of Foreign Gifts and Decorations. The minimal value was last defined effective January 1, 2023, and must be redefined effective as of January 1, 2026. This bulletin cancels FMR Bulletin B-54, “Foreign Gift and Decoration Minimal Value,” issued April 25, 2023, as this bulletin provides updated information on the same topic.

DATES: Applicability Date: January 1, 2026. This notice applies to foreign gifts and decorations received on or after January 1, 2026.

FOR FURTHER INFORMATION CONTACT: For clarification of content, contact William Garrett, Director, Personal Property Policy, Office of Government-wide Policy, Office of Asset and Transportation Management, at 202-368-8163, or by email at william.garrett@gsa.gov. Please cite Notice of GSA Bulletin FMR B-2025-01.

SUPPLEMENTARY INFORMATION:

Background

Foreign gifts and decorations above the GSA-defined minimal value are handled differently than lesser-valued foreign gifts and decorations under the provisions of 5 U.S.C. 7342 and Federal Management Regulation (FMR) Part 102-42.

Foreign gifts and decorations above the minimal value become the property of the Federal Government and must be reported to GSA for disposal if not immediately needed by the agency for official purposes. Additionally, those items initially retained by the agencies for official use are reported to GSA upon termination of official use.

The foreign gifts and decorations minimal value was last redefined effective January 1, 2023, at $480.00, and therefore, must be redefined as of January 1, 2026, to reflect the CPI increase of 8.99 percent for the preceding three years.

Pursuant to FMR § 102-42.10, the approved revised minimal value will be published in an FMR Bulletin posted on OGP's website (www.gsa.gov/foreigngifts).

Calculations using the consumer prices over the past three years show that the minimal value must increase 8.99 percent, or $43.15, from its current $480.00. As in previous years, GSA is rounding the amount to the nearest five dollar increments.

Therefore, GSA is adjusting the new minimal value to $525.00. Per FMR § 102-42.10, an agency may, by regulation, specify a lower value than this Government-wide value for its agency employees.

FMR Bulletin B-2025-01 is available at https://www.gsa.gov/policy-regulations/regulations/federal-management-regulation/fmr-and-related-files.

Larry Allen,
Associate Administrator, Office of Government-wide Policy.

[FR Doc. 2025-24147 Filed 12-31-25; 8:45 am]

BILLING CODE 6820-14-P